DEPARTMENT OF HEALTH AND HUMAN SERVICES

Substance Abuse and Mental Health Services Administration

Notice of SAMHSA's Ceasing Publication of Notices of Funding Availability (NOFAs) and Requests for Applications (RFAs) in the Federal Register

SUMMARY: Consistent with the Department of Health and Human Services management objectives, the Substance Abuse and Mental Health Services Administration (SAMHSA) announces a change in its practice of publishing notices of grant funding availability in the Federal Register. Rather than continue publishing NOFAs and RFAs in the Federal Register, SAMHSA will instead post notices of funding availability only on http://www.Grants.gov and http://www.samhsa.gov. Only single source or limited competition announcements will continue to be published in the Federal Register. This change will be effective January 3, 2005.

Applicants should be aware that all the necessary information to apply for grant funds will continue to be available at SAMHSA's two national clearinghouses: The National Clearinghouse for Alcohol and Drug Information (NCADI)—1-800-729-6686—for substance abuse prevention or treatment grants; and the National Mental Health Information Center—1-800-789-CMHS (2647)—for mental health grants.

FOR FURTHER INFORMATION CONTACT: Cathy J. Friedman, M.A., SAMHSA, 1 Choke Cherry Road, Room 8-1097, Rockville, MD 20857; phone (240) 276-2316; E-mail: cathy.friedman@samhsa.hhs.gov.

Dated: December 28, 2004.
Daryl Kade,
Director, Office of Policy, Planning and Budget, Substance Abuse and Mental Health Services Administration.

[FR Doc. 05-34 Filed 1-3-05; 8:45 am]

BILLING CODE 4162-20-P